DEPARTMENT OF THE INTERIOR

National Park Service

[NPS-NER-DEWA-22315; PS.SDEWA0040.00.1]

Boundary Adjustment at Delaware Water Gap National Recreation Area

AGENCY: National Park Service, Interior.

ACTION: Notification of boundary adjustment.

SUMMARY: The boundary of Delaware Water Gap National Recreation Area is adjusted to include three parcels of land totaling 1,055.89 acres of land, more or less. Fee simple interest in two parcels and a right-of-way over the third parcel will be donated by the Conservation Fund to the United States along with fee simple interest in 35.39 acres of other land already within the boundary. These properties are all located in Pike County, Pennsylvania.

DATES: The effective date of this boundary adjustment is June 23, 2017.

ADDRESSES: The map depicting this boundary adjustment is available for inspection at the following locations: National Park Service, Land Resources Program Center, Northeast Region, 200 Chestnut Street, Philadelphia, Pennsylvania 19106, and National Park Service, Department of the Interior, 1849 C Street NW., Washington, DC 20240.

FOR FURTHER INFORMATION CONTACT: Superintendent John J. Donahue, Delaware Water Gap National Recreation Area, 1978 River Road (Off US209), Bushkill, PA 18324, telephone (570) 426-2418.

SUPPLEMENTARY INFORMATION: Notice is hereby given that, pursuant to 16 U.S.C. 460o-2(b), the boundary of Delaware Water Gap National Recreation Area is adjusted to include three parcels totaling 1,055.89 acres of land in Pike County, Pennsylvania: 1,054.26 acres (Tax Map Nos. 175.00-02-06, 176.00-02-01 and 183.00-01-19) in Lehman and Delaware Townships; and 0.47 acre (portion of Tax Map No. 113.00-01-05.004) and 1.16 acres (right-of-way over a portion of Tax Map No. 113.00-01-05.003) in Milford Township. The two parcels in Milford Township, together with 35.39 acres of fee interest already within the boundary (remaining portion of Tax Map No. 113.00-01-05.004, also known as Tract 12795 in the National Recreation Area), are part of a single property that cannot be subdivided. This boundary adjustment is depicted on Map No. 620/137,770 dated April, 2017.

Specifically, 16 U.S.C. 460o-2(b) states that the Secretary of the Interior may make adjustments in the boundary of the national recreation area by publication of the amended description thereof in the Federal Register: Provided, that the area encompassed by such revised boundary shall not exceed the acreage included within the detailed boundary first described in the Federal Register on June 7, 1977 (42 FR 29071-29103). This boundary adjustment does not exceed the acreage of the detailed boundary so described. The Conservation Fund is in contract to acquire the property in Lehman and Delaware Townships and owns the fee parcel and right-of-way in Milford Township (along with Tract 12795). The Conservation Fund will convey all of these properties, including Tract 12795, to the United States without cost to help mitigate the effects of the upgrade and expansion of the Susquehanna-Roseland electric transmission line across approximately 4.3 miles of the National Recreation Area.

Dated: May 3, 2017.
Joshua R. Laird,
Acting Regional Director, Northeast Region.

[FR Doc. 2017-13154 Filed 6-22-17; 8:45 am]

BILLING CODE 4312-52-P